DEPARTMENT OF THE TREASURY

Office of Foreign Assets Control

Sanctions Action Pursuant to Executive Order 13382

AGENCY: Office of Foreign Assets Control, Treasury.

ACTION: Notice.

SUMMARY: The U.S. Department of the Treasury's Office of Foreign Assets Control (OFAC) is publishing the name of one person whose property and interests in property are blocked pursuant to Executive Order (E.O.) 13382.

DATES: OFAC's actions described in this notice were effective on February 23, 2017, as further specified below.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The Specially Designated Nationals and Blocked Persons List and additional information concerning OFAC sanctions programs are available on OFAC's Web site (www.treas.gov/ofac).

Notice of OFAC Actions

On February 23, 2017, OFAC blocked the property and interests in property of the following person pursuant to E.O. 13382, “Blocking Property of Weapons of Mass Destruction Proliferators and Their Supporters”:

Entity

METALLIC MANUFACTURING FACTORY, 29 May Street, Damascus-Al-Sabe E Bahrat Square, P.O. Box 12184, Syria [NPWMD] (Linked To: MECHANICAL CONSTRUCTION FACTORY; Linked To: SCIENTIFIC STUDIES AND RESEARCH CENTER).

Dated: February 23, 2017.
Andrea Gacki,
Acting Director, Office of Foreign Assets Control.

[FR Doc. 2017-04259 Filed 3-3-17; 8:45 am]

BILLING CODE 4810-AL-P